INTERNATIONAL TRADE COMMISSION

[Investigation Nos. 701-TA-720 and 731-TA-1688 (Final)]

Ceramic Tile From India; Notice of Correction Concerning Scheduling of Testimony and Presentation Dates

AGENCY: United States International Trade Commission.

ACTION: Correction of notice.

SUMMARY: Correction is made to the noon April 14, 2025 deadline for parties to file and serve written testimony and presentation slides in connection with their presentation at the hearing, in the Hearing section of the notice which was published on December 20, 2024.

SUPPLEMENTARY INFORMATION: In the Federal Register of December 20, 2024, in FR Doc. 2024-30379, on page 104208, in the first column, the following correction is made:

The correct deadline dates are as follows: Parties shall file and serve written testimony and presentation slides in connection with their presentation at the hearing by no later than noon on April 16, 2025.

By order of the Commission.
Issued: January 23, 2025.
Lisa Barton,
Secretary to the Commission.

[FR Doc. 2025-01857 Filed 1-28-25; 8:45 am]

BILLING CODE 7020-02-P